DEPARTMENT OF THE INTERIOR

Fish and Wildlife Service

Information Collection Sent to the Office of Management and Budget (OMB) for Approval; OMB Control Number 1018-0093; Federal Fish and Wildlife Permit Applications and Reports, Management Authority, 50 CFR 12, 13, 14, 15, 16, 17, 18, 21, and 23

AGENCY: Fish and Wildlife Service, Interior.

ACTION: Notice; request for comments.

SUMMARY: We (Fish and Wildlife Service) have sent an Information Collection Request (ICR) to OMB for review and approval. The ICR, which is summarized below, describes the nature of the collection and the estimated burden and cost. This ICR is scheduled to expire on June 30, 2007. We may not conduct or sponsor and a person is not required to respond to a collection of information unless it displays a currently valid OMB control number. However, under OMB regulations, we may continue to conduct or sponsor this information collection while it is pending at OMB.

DATES: You must submit comments on or before July 23, 2007.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this IC, contact Hope Grey by mail, fax, or e-mail (see ADDRESSES) or by telephone at (703) 358-2482.

SUPPLEMENTARY INFORMATION:

OMB Control Number: 1018-0093.

Title: Federal Fish and Wildlife Permit Applications and Reports, Management Authority, 50 CFR 12, 13, 14, 15, 16, 17, 18, 21, and 23.

Service Form Number(s): 3-200-19 through 3-200-37, 3-200-39 through 3-200-53, 3-200-58, 3-200-61, 3-200-64 through 3-200-66, 3-200-69, 3-200-70, 3-200-73, and 3-200-76.

Type of Request: Revision of currently approved collection.

Affected Public: Individuals, biomedical companies, circuses, zoological parks, botanical gardens, nurseries, museums, universities, scientists, antique dealers, exotic pet industry, hunters, taxidermists, commercial importers/exporters of wildlife and plants, freight forwarders/brokers, and local, State, tribal, and Federal governments.

Respondent's Obligation: Required to obtain or retain a benefit.

Frequency of Collection: On occasion for applications; annually, semiannually, or on occasion for reports.

Estimated Annual Number of Respondents: 8,155.

Estimated Total Annual Responses: 12,097.

Estimated Time per Response: Varies from 15 minutes to 47 hours for applications; varies from 15 minutes to 85 hours for reports.

Estimated Total Annual Burden Hours: 8,950.

Estimated Nonhour Burden Cost: $941,270, associated primarily with application fees.

Abstract: This IC covers permit applications that our Division of Management Authority uses to determine the eligibility of applicants for permits requested in accordance with the criteria in various Federal wildlife conservation laws and international treaties, including:

(1) Endangered Species Act (16 U.S.C. 1531 et seq.).

(2) Migratory Bird Treaty Act (16 U.S.C. 703 et seq.).

(3) Lacey Act (16 U.S.C. 3371 et seq.).

(4) Bald and Golden Eagle Protection Act (16 U.S.C. 668).

(5) Convention on International Trade in Endangered Species of Wild Fauna and Flora (CITES) (27 U.S.T. 1087).

(6) Marine Mammal Protection Act (16 U.S.C. 1361-1407 et seq.).

(7) Wild Bird Conservation Act (16 U.S.C. 4901-4916 et seq.).

Service regulations implementing these statutes and treaties are in Chapter I, Subchapter B of Title 50, Code of Federal Regulations (CFR). These regulations stipulate general and specific requirements that when met allow us to issue permits to authorize activities that are otherwise prohibited.

This revised IC includes:

(1) Modifications to the format and content of the currently approved application forms so that they are easier to understand and complete.

(2) FWS Forms 3-200-61, 3-200-69, 3-200-70 and 3-200-76, which are currently approved under OMB control numbers 1018-0130, 1018-0022 and 1018-0134.

(3) New forms (3-200-30a, 3-200-39a, and 3-200-40a) for reports associated with permits. The reporting requirements are not new. We developed the new forms to make it easier for permittees to report the required information.

Comments: On February 22, 2007, we published in the Federal Register (72 FR 8002) a notice of our intent to request that OMB approve this information collection. In that notice, we solicited comments for 60 days, ending on April 23, 2007. We received one comment. The comment did not address issues surrounding the proposed collection of information or the cost and hour burden estimates, but instead objected to other aspects of our program, such as level of issuance of permits, interpretation of laws, clarity of Federal Register notices related to other processes and procedures, and the accuracy of the level of the application fees. We have not made any changes to this collection as a result of the comment.

We again invite comments concerning this information collection on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: June 12, 2007.
Hope Grey,
Information Collection Clearance Officer, Fish and Wildlife Service.

FR Doc. E7-12042 Filed 6-20-07;

BILLING CODE 4310-55-S